JUDICIAL CONFERENCE OF THE UNITED STATES

Hearing of the Judicial Conference Advisory Committee on Rules of Bankruptcy Procedure

AGENCY: Judicial Conference of the United States, Advisory Committee on Rules of Bankruptcy Procedure.

ACTION: Notice of open hearing.

SUMMARY: The Advisory Committee on Rules of Bankruptcy Procedure has proposed amendments to Rule 1005 of the Federal Rules of Bankruptcy Procedure and to Official Forms 1, 3, 5, 6, 7, 8, 9, 10, 16A, 16C, and 19. A public hearing on the amendments is scheduled to be held in Washington, DC, on April 12, 2002.

The Judicial Conference Committee on Rules of Practice and Procedure submits the rule and forms for public comment. All comments and suggestions with respect to the amendments must be placed in the hands of the Secretary as soon as convenient and, in any event, not later than April 22, 2002. Those wishing to testify should contact the Secretary at the address below in writing at least 30 days before the hearing. All written comments on the proposed rule amendments and form revisions can be sent by one of the following three ways: by overnight mail to Peter G. McCabe, Secretary, Committee on Rules of Practice and Procedure of the Judicial Conference of the United States, Thurgood Marshall Federal Judiciary Building, One Columbus Circle, NE., Washington, DC 20002; by electronic mail via the Internet at http://www.uscourts.gov/rules; or by facsimile to Peter G. McCabe at (202) 502-1755.

Notice of Open Hearing

In accordance with established procedures all comments submitted on the proposed amendments are available to public inspection.

The text of the proposed rule amendments and the accompanying Committee Notes can be found at the United States Federal Courts' Home Page at http://www.uscourts.gov/rules on the Internet.

FOR FURTHER INFORMATION CONTACT: John K. Rabiej, Chief, Rules Committee Support Office, Administrative Office of the United States Courts, One Columbus Circle, NE., Washington, DC 20002, telephone (202) 502-1820.

Dated: February 26, 2002.
John K. Rabiej,
Chief, Rules Committee Support Office.

[FR Doc. 02-5031 Filed 3-1-02; 8:45 am]

BILLING CODE 2210-55-M